DEPARTMENT OF THE INTERIOR

National Park Service

Public Notice

AGENCY: National Park Service, Interior.

SUMMARY: Pursuant to the terms of existing concession contracts, public notice is hereby given that the National Park Service intends to request a continuation of visitor services for a period not-to-exceed 1 year from the date of contract expiration.

SUPPLEMENTARY INFORMATION: The contracts listed below have been extended to maximum allowable under 36 CFR 51.23. Under the provisions of current concession contracts and pending the completion of the public solicitation of a prospectus for a new concession contract, the National Park Service authorizes continuation of visitor services for a period not-to-exceed 1 year under the terms and conditions of the current contract as amended. The continuation of operations does not affect any rights with respect to selection for award of a new concession contract.

Conc ID No. | Concessioner name | Park
AMIS002 | Forever Resorts, LLC | Amistad National Recreation Area.
AMIS003 | Rough Canyon Marina | Amistad National Recreation Area.
BAND001 | Bandelier Trading, Inc | Bandelier National Monument.
BIBE001 | Forever Resorts | Big Bend National Park.
BRCA002 | Bryce-Zion Trail Rides | Bryce Canyon National Park.
CAVE001 | Cavern Supply Company, Inc | Carlsbad Caverns National Park.
CURE001 | Elk Creek Marina | Curecanti National Recreation Area.
GLAC001 | Glacier Park Boat Company, Inc | Glacier National Park.
GLAC003 | Mule Shoe Outfitters, LLC | Glacier National Park.
GLCA001 | Wilderness River Adventures | Glen Canyon National Recreation Area.
GRCA004 | Jerman-Mangum Enterprises, Inc | Grand Canyon National Park.
GRCA005 | Verkamps, Inc | Grand Canyon National Park.
GRCA006 | Arizona Raft Adventures, Inc | Grand Canyon National Park.
GRCA007 | Arizona River Runners, Inc | Grand Canyon National Park.
GRCA010 | Canyoneers, Inc | Grand Canyon National Park.
GRCA011 | Colorado River & Trail Expeditions, Inc | Grand Canyon National Park.
GRCA015 | Grand Canyon Expeditions, Inc | Grand Canyon National Park.
GRCA016 | Canyon Expeditions, Inc | Grand Canyon National Park.
GRCA017 | Diamond River Adventures, Inc | Grand Canyon National Park.
GRCA018 | Ted C. Hatch River Expeditions, Inc | Grand Canyon National Park.
GRCA020 | Moki Mac River Expeditions, Inc | Grand Canyon National Park.
GRCA021 | O.A.R.S. Grand Canyon, Inc | Grand Canyon National Park.
GRCA022 | John R. Vail | Grand Canyon National Park.
GRCA024 | ARAMARK | Grand Canyon National Park.
GRCA026 | Tour West, Inc | Grand Canyon National Park.
GRCA028 | Western River Expeditions, Inc | Grand Canyon National Park.
GRCA029 | Grand Canyon Discovery, Inc | Grand Canyon National Park.
GRTE001 | Grand Teton Lodge Company | Grand Teton National Park.
GRTE003 | Rex G. and Ruth G. Maughan | Grand Teton National Park.
LAMR002 | Rex Maughan | Lake Meredith National Recreation Area.
MEVE001 | ARAMARK | Mesa Verde National Park.
PEFO001 | Xanterra Parks & Resorts, LLC | Petrified Forest National Park.
ROMO001 | Rex G. and Ruth G. Maughan | Rocky Mountain National Park.
TICA001 | Carl and Betsy Wagner | Timpanogos Cave National Monument.

DATES: Effective Date: January 1, 2006.

FOR FURTHER INFORMATION CONTACT: Jo. A. Pendry, Concession Program Manager, National Park Service, Washington, DC 20240, Telephone, 202/513-7156.

Dated: December 15, 2005.
Alfred J. Poole, III,
Acting Assistant Director, Business Services.

[FR Doc. 06-30 Filed 1-3-06; 8:45 am]

BILLING CODE 4312-53-M